DEPARTMENT OF THE INTERIOR

Fish and Wildlife Service

[FWS-R4-ES-2008-NO247; 40120-1113-0000-C2]

Notice of Availability of the Florida Panther Recovery Plan

AGENCY: Fish and Wildlife Service, Interior.

ACTION: Notice of document availability.

SUMMARY: We, the Fish and Wildlife Service, announce the availability of the third revision of the Florida Panther Recovery Plan. The plan includes specific recovery objectives and criteria to be met in order to reclassify the Florida panther (Puma concolor coryi) to threatened status and eventually delist this species under the Endangered Species Act of 1973, as amended (Act).

ADDRESSES: You can obtain copies of the Florida Panther Recovery Plan by contacting the Fish and Wildlife Service, South Florida Ecological Services Office, 1339 20th Street, Vero Beach, FL 32960 (telephone, 772-562-3909) or by visiting our Web sites at http://endangered.fws.gov or http://verobeach.fws.gov.

FOR FURTHER INFORMATION CONTACT: Chris Belden, South Florida Ecological Services Office, 772-562-3909, ext. 237.

SUPPLEMENTARY INFORMATION:

Background

Restoring listed animals and plants to the point where they are again secure, self-sustaining components of their ecosystems is a primary goal of our threatened and endangered species program. To help guide the recovery effort, we are preparing recovery plans for most listed species. Recovery plans describe actions that may be necessary for conservation of species, establish criteria for reclassification from endangered to threatened status or delisting, and estimate time and cost for implementing recovery measures.

The Act (16 U.S.C. 1533 et seq.) requires the development of recovery plans for listed species, unless such a plan would not promote the conservation of a particular species. Section 4(f) of the Act requires us to provide a public notice and an opportunity for public review and comment during recovery plan development. We made the draft third revision of the Florida Panther Recovery Plan available for public comment from January 31, 2006, through April 3, 2006 (71 FR 5066). We considered information we received during the public comment period and information from peer reviewers in our preparation of this final revised recovery plan. We will forward substantive comments to other Federal agencies so each agency can consider these comments in implementing approved recovery plans.

The Florida panther is the last subspecies of Puma still surviving in the eastern United States. Historically occurring throughout the southeastern United States, the panther today is restricted to less than 5 percent of its historic range in 1 breeding population of approximately 100 animals, located in south Florida. Wide ranging, and secretive, panthers occur at low densities. They require large contiguous areas to meet their social, reproductive, and energetic needs. Panther habitat selection is related to prey availability (i.e., habitats that make prey vulnerable to stalking and capturing are selected).

Habitat loss, degradation, and fragmentation are among the greatest threats to panther survival. Vehicle strikes and problems associated with being a single, small, isolated population have continued to keep the panther population at its current low numbers. Potential panther habitat throughout the southeast continues to be affected by urbanization, residential development, conversion to agriculture, mining and mineral exploration, and lack of land-use planning that recognizes panther needs. Public support is critical to attainment of recovery goals for the Florida panther and any reintroduction efforts. Potential opposition to panthers will be the most difficult aspect of panther recovery and must be addressed before any reintroduction efforts are initiated.

The goal of the Florida panther recovery plan is to achieve long-term viability of the panther to a point where it can be reclassified from endangered to threatened and then ultimately removed from the Federal List of Endangered and Threatened Species. The recovery plan identifies three objectives to meet this goal, including:

1. Maintain, restore, and expand the Florida panther population and its habitat in south Florida and expand the breeding portion of the population in south Florida to areas north of the Caloosahatchee River.

2. Identify, secure, maintain, and restore panther habitat in potential reintroduction areas within the panther's historic range, and establish viable populations of the panther outside south and south-central Florida.

3. Facilitate panther recovery through public awareness and education.

The plan presents criteria for reclassifying or delisting the panther. These criteria are based on the number of individuals and number of populations that provide for demographically and genetically viable populations, as determined by several population viability analyses, to ensure resilience to catastrophic events.

Reclassification of the Florida panther will be considered when:

1. Two viable populations of at least 240 individuals (adults and subadults) each have been established and subsequently maintained for a minimum of 12 years (or 2 panther generations).

2. Sufficient habitat quality, quantity, and spatial configuration to support these populations is retained/protected or secured for the long term.

Delisting of the Florida panther will be considered when:

1. Three viable, self-sustaining populations of at least 240 individuals (adults and subadults) each have been established and subsequently maintained for a minimum of 12 years.

2. Sufficient habitat quality, quantity, and spatial configuration to support these populations is retained/protected or secured for the long term.

A viable population, for purposes of Florida panther recovery, has been defined as one in which there is a 95 percent probability of persistence for 100 years. This population may be distributed in a metapopulation structure composed of subpopulations that total 240 individuals. There must be exchange of individuals and gene flow among subpopulations. For reclassification, exchange of individuals and gene flow can be either natural or through management. If managed, a commitment to such management must be formally documented and funded. For delisting, exchange of individuals and gene flow among subpopulations must be natural (i.e., not manipulated or managed). Habitat should be in relatively unfragmented blocks that provide for food, shelter, and characteristic movements (e.g., hunting, breeding, dispersal, and territorial behavior) and support each metapopulation at a minimum density of 2 to 3 animals per 100 square miles.

Authority: The authority for this action is section 4(f) of the Endangered Species Act, 16 U.S.C. 1533(f).

Dated: December 10, 2008.
Teresa H. McKitrick.
Acting Regional Director, Southeast Region.

[FR Doc. E8-29890 Filed 12-17-08; 8:45 am]

BILLING CODE 4310-55-P